DEPARTMENT OF COMMERCE

National Oceanic and Atmospheric Administration

RIN 0648-XA867

Endangered Species; File No. 10022

AGENCY: National Marine Fisheries Service (NMFS), National Oceanic and Atmospheric Administration (NOAA), Commerce.

ACTION: Notice; issuance of permit modification.

SUMMARY: Notice is hereby given that Raymond Carthy, University of Florida, Florida Cooperative Fish and Wildlife Research Unit, 117 Newins-Ziegler Hall, P.O. Box 110450, Gainesville, FL 32611, has been issued a modification to scientific research Permit No. 10022-01.

ADDRESSES: The modification and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Colette Cairns or Amy Hapeman, (301) 427-8401.

SUPPLEMENTARY INFORMATION: On December 17, 2010, notice was published in the Federal Register (75 FR 78974) that a modification of Permit No. 10022-01, issued May 12, 2010 (75 FR 26715), had been requested by the above-named individual. The requested modification has been granted under the authority of the Endangered Species Act of 1973, as amended (ESA; 16 U.S.C. 1531 et seq.) and the regulations governing the taking, importing, and exporting of endangered and threatened species (50 CFR 222-226).

Permit 10022-01 authorizes the permit holder to conduct research off the northwest coast of Florida. Researchers may capture loggerhead (Caretta caretta), green (Chelonia mydas), and Kemp's ridley (Lepidochelys kempii) sea turtles by strike-net or set-net. Animals may be weighed, measured, photographed, skin biopsied, flipper and passive integrated transponder (PIT) tagged, and released. Researchers also are authorized to perform a subset of activities on sea turtles legally captured by relocation trawlers. A subset of sea turtles may have transmitters attached to assess habitat use and study whether relocation distances for sea turtles captured by relocation trawlers are appropriate.

The modification authorizes: (1) An increase in the number of sea turtles that may be taken annually; (2) satellite tagging for captured loggerhead and Kemp's ridleys; and (3) epibiota removal, blood sampling, and carapace swabbing for a subset of captured animals. A subset of the green sea turtles may also be captured by hand/dip net, flipper and PIT tagged, measured, weighed, photographed, and temporarily carapace marked. This work will assess changes in sea turtle abundance, physical characteristics, and habitat use in the area relative to historical data. The modification is valid until the permit expires on April 30, 2013.

Issuance of this modification, as required by the ESA was based on a finding that such permit (1) Was applied for in good faith, (2) will not operate to the disadvantage of such endangered or threatened species, and (3) is consistent with the purposes and policies set forth in section 2 of the ESA.

Dated: December 9, 2011.
P. Michael Payne,
Chief, Permits and Conservation Division, Office of Protected Resources, National Marine Fisheries Service.

[FR Doc. 2011-32091 Filed 12-13-11; 8:45 am]

BILLING CODE 3510-22-P